DEPARTMENT OF ENERGY

Federal Energy Regulatory Commission

[Docket No. EL03-216-000]

Northeast Utilities Service Company and Select Energy, Inc., Complainant, v. ISO New England Inc. and New England Power Pool, Respondent; Notice of Complaint

July 24, 2003.

Take notice that on July 23, 2003, Northeast Utilities Service Company, on behalf of the Northeast Utilities Operating Company (NUSCO) and Select Energy, Inc. (Select Energy) tendered for filing a complaint against ISO New England Inc. (ISO-NE) and New England Power Pool (NEPOOL) regarding the collection and disbursement of the transmission loss component of the locational marginal prices under NEPOOL's standard market design alleging violations of the Federal Power Act and the Commission's regulations.

NUSCO and Select Energy state that copies of this filing have been served on ISO-NE, NEPOOL, and affected state regulatory commissions.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date below. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: August 12, 2003.

Magalie R. Salas,
Secretary.

[FR Doc. 03-19383 Filed 7-30-03; 8:45 am]

BILLING CODE 6717-01-P